DEPARTMENT OF AGRICULTURE

Farm Service Agency

Request for Extension of a Currently Approved Information Collection; Receiving and Processing Applications

AGENCY: Farm Service Agency, USDA.

ACTION: Notice and request for comments.

SUMMARY: In accordance with the Paperwork Reduction Act of 1995, the Farm Service Agency (FSA) is seeking comments from all interested individuals and entities on the revision and extension of currently approved information collection that supports the Direct Loan Program. The collection of information from loan applicants and commercial lenders is used to determine eligibility and financial feasibility when the applicant requests direct loan assistance.

DATES: Comments on this notice must be received on or before April 16, 2007 to be assured consideration.

FOR FURTHER INFORMATION CONTACT: Cathy Quayle, Senior Loan Officer, USDA, Farm Service Agency, Loan Making Division, 1400 Independence Avenue, SW., Stop 0522, Washington, DC 20250-0522; Telephone (202) 690-4018; Electronic mail: cathy.quayle@wdc.usda.gov.

SUPPLEMENTARY INFORMATION: Title: Receiving and Processing Applications.

OMB Control Number: 0560-0178.

Expiration Date of Approval: September 30, 2007.

Type of Request: Extension of Currently Approved Information Collection.

Abstract: This information collected under OMB Control Number 0560-0178 is necessary to effectively administer the Direct Loan Program in accordance with the requirements of 7 CFR Part 1910 subpart A, as authorized by the Consolidated Farm and Rural Development Act (CONACT). The collected information is submitted to the Agency loan official by loan applicants and commercial lenders for use in making program eligibility and financial feasibility determinations as required by the CONACT.

Estimate of Annual Respondent Burden: Public reporting burden for this collection of information is estimated to average 1.66 hours per response.

Respondents: Individuals and entity farmers and commercial lenders.

Estimated Number of Respondents: 17,806.

Estimated Number of Responses per Respondent: 3.43.

Estimated Total Annual Burden on Respondents: 101,283.

Comments are invited on the following: (a) Whether the collection of information is necessary for the proper performance of the functions of the agency, including whether the information will have practical utility; (b) the accuracy of the agency's estimate of burden, including the validity of the methodology and assumptions used; (c) ways to enhance the quality, utility and clarity of the information being collected; and (d) ways to minimize the burden of the collection of information on those who are to respond, including through the use of appropriate automated, electronic, mechanical, or other technological collection techniques or other forms of information technology. These comments should be sent to the Desk Officer for Agriculture, Office of Information and Regulatory Affairs, Office of Management and Budget, Washington, DC 20503 and to Cathy Quayle, Senior Loan Officer, USDA Farm Service Agency, Loan Making Division, 1400 Independence Avenue, SW., STOP 0522, Washington, DC 20250-0522.

Comments will be summarized and included in the request for Office of Management and Budget approval of the information collection. All comments will also become a matter of public record.

Signed in Washington, DC, on February 9, 2007.
Teresa C. Lasseter,
Administrator, Farm Service Agency.

[FR Doc. E7-2666 Filed 2-14-07; 8:45 am]

BILLING CODE 3410-05-P